DEPARTMENT OF THE TREASURY

Submission for OMB Review; Comment Request

May 9, 2006.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before June 15, 2006 to be assured of consideration.

Internal Revenue Service (IRS)

OMB Number: 1545-1986.

Type of Review: Extension.

Title: Notice 2006-XX, Elections Created or Effected by the American Jobs Creation Act of 2004.

Description: The collection of information will enable the Internal Revenue Service to ensure that the eligibility requirements for the various elections or revocations have been satisfied and the requisite actions have been complied with.

Respondents: Individuals or households; Business or other for profit; and Farms.

Estimated Total Burden Hours: 3,034,765 hours.

OMB Number: 1545-1970.

Type of Review: Extension.

Title: Election to Participate in Announcement 2005-80 Settlement Initiative.

Form: IRS 13750.

Description: Announcement 2005-80 provides a settlement initiative under which taxpayers and the Service may resolve certain abusive tax transactions. Pursuant to Announcement 2005-80, Form 13750 is the ONLY specified manner in which taxpayers may elect to participate in the settlement initiative.

Respondents: Individuals or households; Business or other for-profit; and Not-for-profit institutions.

Estimated Total Burden Hours: 2,500 hours.

OMB Number: 1545-1977.

Type of Review: Extension.

Title: Notice 2005-89 Temporary Relief for Certain REIT's and Taxable REIT Subsidiaries that Provide Accommodations to Persons Affected by Hurricanes Katrina and Rita.

Description: The Internal Revenue Service will not treat a hotel, motel, or other establishment that otherwise satisfies the definition of a “lodging facility” under section 856(d)(9) of the Internal Revenue Code as other than a “lodging facility” if it is used to provide temporary housing on a nontransient basis to certain persons affected by Hurricane Katrina or Hurricane Rita, provided the recordkeeping requirements of this Notice are satisfied.

Respondents: Individuals or households; and Business or other for-profit.

Estimated Total Burden Hours: 500 hours.

OMB Number: 1545-1969.

Type of Review: Extension.

Title: Waiver of Right to Consistent Agreement of Partnership Items and Partnership-Level Determinations as to Penalties, Additions to Tax and Additional Amounts.

Description: The information requested on Form 13751 (as required under Announcement 2005-80) will be used to determine the eligibility for participation in the settlement initiative of taxpayers related through TEFRA partnerships to ineligible applicants. Such determinations will involve partnership items and partnership-level determinations, as well as the calculation of tax liabilities resolved under this initiative, including penalties and interest.

Respondents: Individuals or households; Business or other for-profit and not-for-profit institutions.

Estimated Total Burden Hours: 100 hours.

Clearance Officer: Glenn P. Kirkland, Internal Revenue Service, Room 6516, 1111 Constitution Avenue, NW, Washington, DC 20224. (202) 622-3428.

OMB Reviewer: Alexander T. Hunt, Office of Management and Budget, Room 10235, New Executive Office Building, Washington, DC 20503. (202) 395-7316.

Robert Dahl,
Treasury PRA Clearance Officer.

[FR Doc. E6-7388 Filed 5-15-06; 8:45 am]

BILLING CODE 4830-01-P